NUCLEAR REGULATORY COMMISSION

[Docket Nos. 50-250-OLA, 50-251-OLA; ASLBP No. 08-869-03-OLA-BD01]

Florida Power and Light Company; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

Florida Power and Light Company

(Turkey Point Nuclear Plant Units 3 and 4)

This proceeding involves a license amendment request from Florida Power and Light Company that would remove notes associated with License Amendment Nos. 221 and 230 at its Turkey Point Nuclear Plant in Miami-Dade County, Florida. In response to a July 29, 2008 Notice of Consideration of Issuance of Amendments to a Facility Operating Licenses, Proposed No Significant Hazards Consideration Determination, and Opportunity for a Hearing (73 FR 43,953, 43,956), a request for hearing has been submitted by Thomas Saporito on behalf of himself and Saporito Energy Consultants.

The Board is comprised of the following administrative judges:

William J. Froehlich, Chair, Atomic Safety and Licensing Board Panel, U.S. Nuclear Regulatory Commission, Washington, DC 20555-0001

Thomas S. Moore, Atomic Safety and Licensing Board Panel, U.S. Nuclear Regulatory Commission, Washington, DC 20555-0001

Michael F. Kennedy, Atomic Safety and Licensing Board Panel, U.S. Nuclear Regulatory Commission, Washington, DC 20555-0001

All correspondence, documents, and other materials shall be filed in accordance with the NRC E-Filing rule, which the NRC promulgated in August 2007 (72 FR 49,139).

Issued at Rockville, Maryland, this 21st day of August, 2008.
E. Roy Hawkens,
Chief Administrative Judge, Atomic Safety and Licensing Board Panel.

[FR Doc. E8-19834 Filed 8-26-08; 8:45 am]

BILLING CODE 7590-01-P